DEPARTMENT OF TRANSPORTATION

Pipeline and Hazardous Materials Safety Administration

[Docket No. RSPA-04-19914; Grant 2]

Pipeline Safety: Grant of Waiver; Enstar Natural Gas Company

AGENCY: Pipeline and Hazardous Materials Safety Administration (PHMSA), DOT.

ACTION: Notice; grant of waiver.

SUMMARY: Enstar Natural Gas Company (Enstar) petitioned PHMSA for a waiver of the pipeline safety regulation that prohibits tracer wire from being wrapped around the pipe.

SUPPLEMENTARY INFORMATION: The pipeline safety regulation at 49 CFR 192.321(e), Installation of plastic pipe, requires plastic pipe that is not encased to have an electric conducting wire or other means of locating the pipe while it is underground. Tracer wire may not be wrapped around the pipe and contact with the pipe must be minimized but is not prohibited. Tracer wire or other metallic elements installed for pipe locating purposes must be resistant to corrosion damage, either by use of coated copper wire or by other means. Enstar requested a waiver from § 192.321(e) because it is uncommon for lightning strikes to occur in the service area of its pipeline. Enstar contends wrapping tracer wire around its plastic pipe allows utilities to be accurately located and thus reduces the risk of third-party damage to its pipeline.

In support of its waiver request, Enstar provided information from the Bureau of Land Management (BLM) who is responsible for tracking lightning strike occurrences and monitoring forest fire activity. BLM determined that lightning strikes are most frequent north and west of the Alaska Range. Accordingly, BLM installed lightning detection systems with electrical sensors at nine stations in Alaska where lightning strikes are most common. BLM did not install electrical sensors to the south and east of the Alaska Range where Enstar facilities are located, because it determined lightning strikes are uncommon in those areas.

Enstar's service area is located in south central Alaska. Because of the unique geographical and climatic conditions of Enstar's pipeline, Enstar has been able to demonstrate that in 32 years, it has recorded only one confirmed pipeline incident due to lightning strikes.

On April 6, 2005, PHMSA published a notice in Federal Register seeking public comment on Enstar's waiver request (70 FR 17509); no comments were received.

Grant of Waiver

Based on the information presented by Enstar showing that lightning strikes are rare in the service area of its pipeline, PHMSA finds that granting this waiver request is not inconsistent with pipeline safety. Therefore, Enstar's request for waiver from the regulatory requirements of § 192.321(e) is granted. If, however, PHMSA determines the terms of this waiver are no longer appropriate or the overall effect of the waiver is inconsistent with pipeline safety, PHMSA may revoke this waiver and require Enstar to comply with the regulatory requirements of § 192.321(e).

This waiver is granted on the condition that Enstar:

• Apply this waiver only to its pipeline facilities located south of the Alaska Range in the state of Alaska;

• Protect its pipelines from ground faults—in particular, those pipelines that may be located in an electric power corridor; and

• Place tracer wire in proximity to, but not in direct contact with, its pipeline whenever and where possible.

Authority: 49 U.S.C. 60118(c) and 49 CFR 1.53.

Issued in Washington, DC on November 28, 2005.
Joy Kadnar,
Acting Deputy Associate Administrator for Pipeline Safety.

[FR Doc. 05-23641 Filed 12-2-05; 8:45 am]

BILLING CODE 4910-60-P